DEPARTMENT OF AGRICULTURE

Submission for OMB Review; Comment Request

October 31, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 5, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Successful Approaches to Reduce Sodium in School Meals.

OMB Control Number: 0584-NEW.

Summary of Collection: The National School Lunch Program (NSLP) and the School Breakfast Program (SBP) are federally assisted meal programs operating in almost 100,000 public schools, non‐profit private schools, and residential child-care institutions. Any child enrolled in a participating school may purchase a meal through the SBP and NSLP. Federal regulations (7 CFR 210) set nutritional and other meal requirements for school lunches, including targets for sodium levels. The purpose of this study is to identify, among schools that are successfully meeting the sodium targets, “best practices” that could be used to provide technical assistance to School Food Authorities (SFAs) for developing lower sodium menus.

Need and Use of the Information: The purpose of this study is to identify the best practices employed by SFAs that have successfully met or exceed sodium requirements in their schools. The findings will be helpful for SFAs and schools that have difficulty meeting the sodium targets, by providing insight into ways that other similar SFAs have overcome obstacles to successfully serve school meals that meet the sodium requirements. Other important considerations for identifying best practices include the acceptability of meals to children and the additional cost (if any) of providing lower sodium meals. The study will also provide information about the availability of, and strategies for, procuring lower sodium foods for schools to purchase and serve.

Description of Respondents: State, Local, or Tribal Government. Businesses (profit and not for profit). Individuals/Households.

Number of Respondents: 809.

Frequency of Responses: Reporting: once.

Total Burden Hours: 433.

Ruth Brown,
Departmental Information Collection Clearance Officer.

[FR Doc. 2016-26533 Filed 11-2-16; 8:45 am]

BILLING CODE 3410-30-P